GENERAL SERVICES ADMINISTRATION

[Notice-ID-2023-02; Docket No. 2023-0002; Sequence No. 8]

Privacy Act of 1974; System of Records

AGENCY: Office of the Chief Privacy Officer, General Services Administration (GSA).

ACTION: Rescindment of a system of records notice.

SUMMARY: Pursuant to the Privacy Act of 1974, notice is hereby given that the General Services Administration (GSA) proposes to rescind the system GSA/HRO-2—Employee Drug Abuse Alcoholism Files, as the records are now with the U.S. Department of Health and Human Services (HHS), not GSA, as GSA entered an interagency agreement with HHS for support so the records are covered by the HHS SORN, 09-90-0010, Employee Assistance Program (EAP) Records.

DATES: Submit comments on or before April 13, 2023.

ADDRESSES: Submit comments by any of the following methods:

• Regulations.gov: http://www.regulations.gov. Search for Notice-ID-2023-02, Rescindment of a System of Records Notice. Select the link “Comment Now” that corresponds with “Notice-ID-2023-02, Rescindment of a System of Records Notice.” Follow the instructions provided on the screen. Please include your name, company name (if any), and “Notice-ID-2023-02, Rescindment of a System of Records Notice” on your attached document.

• By email to the GSA Privacy Act Officer: gsa.privacyact@gsa.gov.

• By mail to: Privacy Office (IDE), GSA, 1800 F Street NW, Washington, DC 20405.

FOR FURTHER INFORMATION CONTACT: Call or email Richard Speidel, the GSA Chief Privacy Officer: telephone 202-969-5830; email gsa.privacyact@gsa.gov.

SUPPLEMENTARY INFORMATION: The SORN GSA/HRO-2—Employee Drug Abuse Alcoholism Files is no longer required as the records are now with the U.S. Department of Health and Human Services (HHS), not GSA, as GSA entered an interagency agreement with HHS for support, so the records are covered by the HHS SORN 09-90-0010.

SYSTEM NAME AND NUMBER:

GSA/HRO-2—Employee Drug Abuse Alcoholism Files.

HISTORY:

73 FR 22412.

Richard Speidel,
Chief Privacy Officer, Office of the Deputy Chief Information Officer, General Services Administration.

[FR Doc. 2023-05190 Filed 3-13-23; 8:45 am]

BILLING CODE 6820-34-P